DEPARTMENT OF JUSTICE

[AAG/A Order No. 254-2001]

Privacy Act of 1974; System of Records

Pursuant to the Privacy Act of 1974 (5 U.S.C. 552a), the Immigration and Naturalization Service (INS), Department of Justice, proposes to modify the following system of records—previously published March 7, 1997, (62 FR 10580):

The Immigration and Naturalization Service, Office of Internal Audit Investigations (OIA) Index and Records, JUSTICE/INS-002.

INS proposes to republish the notice to: (1) Include new information in the Categories of Records section, (2) add two new routine uses (J and K), and (3) modify the “Retention and Disposal” section as described in the attached Federal Register notice.

Routine use J will allow contractors working for INS to have access to the information in this system of records. Routine use K allows disclosure to former employees when the Department of Justice requires information and/or consultation assistance from the former employee that is necessary for personnel-related or other official purposes regarding a matter within that person's former area of responsibility. Also, INS is making a modification to the Retention and Disposal section of the notice. The National Archives and Records Administration (NARA) has oversight responsibility for retention and disposal schedules. NARA withdrew the entire General Records Schedule (GRS) 22, Inspector General Records, and the disposal authority formerly provided under this schedule. GRS 22 covered the records in this system. Therefore, INS is modifying this notice to include a new Retention and Disposal Schedule for OIA records. Also, other minor corrections and edits have been made to reflect the current status of this system of records.

In accordance with 5 U.S.C. 552a(e)(4) and (11), the public is given a 30-day period in which the comment on new routine use disclosures and system modifications. The Office of Management and Budget (OMB), which has oversight responsibilities under the Act, requires a 40-day period in which to conclude its review of this revised system notice. Therefore, please submit any comments by February 4, 2002. OMB, the Congress, and the public are invited to send written comments to Mary Cahill, Management Analyst, Management and Planning Staff, Justice Management Division, Department of Justice, Washington, DC 20530 (Room 1400, National Place Building).

In accordance with 5 U.S.C. 552a(r), the Department has provided a report to OMB and the Congress.

Dated: December 20, 2001.
Janis A. Sposato,
Acting Assistant Attorney General for Administration.

JUSTICE/INS-002

SYSTEM NAME:

Office of Internal Audit Investigations Index and Records

SYSTEM LOCATION:

Headquarters office, Immigration and Naturalization Service (INS), 425 I Street, NW., Washington, DC. In addition, field offices of the INS have access only to hardcopy files during an investigation. A complete address list of the principal offices of INS is detailed in JUSTICE/INS-999, last published in the Federal Register on April 13, 1999 (64 FR 18052).

* * * * *

CATEGORIES OF RECORDS IN THE SYSTEM:

Information relating to investigations, including:

a. Letters, memoranda, and other documents citing complaints of alleged criminal, civil, or administrative misconduct (i.e., program subject files and internal review case files).

b. Investigative files (i.e., selected and non-selected cases) which include: reports of investigations to resolve allegations of misconduct or violations of law with related exhibits, statements, affidavits or records obtained during investigations; prior criminal or non-criminal records of individuals as they relate to the investigations; reports from or to other law enforcement bodies; information obtained from informants and identifying data with respect to such informants; nature of allegations made against suspects and identifying data concerning such subjects; public source materials; and employee identifying data (e.g., full name, social security number, address, duty station, grade, job series, entrance on duty [EOD] date, and date of birth) obtained from the National Finance Center [NFC] payroll system.

* * * * *

ROUTINE USES OF RECORDS MAINTAINED IN THE SYSTEM, INCLUDING CATEGORIES OF USERS AND THE PURPOSES OF SUCH USES:

* * * * *

B. To General Service Administration and National Archives and Records Administration (NARA) in records management inspections conducted under the authority of 44 U.S.C. 2904 and 2906.

* * * * *

J. To contractors, grantees, experts, consultants, students, and others performing or working on a contract, service, grant, cooperative agreement, or other assignment for the Federal Government, when necessary to accomplish an agency function related to this system of records.

K. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

* * * * *

RETENTION AND DISPOSAL:

Program subject files are destroyed when 10 years old. Internal review case files are maintained until the end of the fiscal year in which the case was closed. One year after these records are closed, they are transferred to the National Records Center and kept for 10 years and then are destroyed. General internal review files will be destroyed when superseded, obsolete, or no longer needed for reference. Investigative case files concerning selected cases are maintained permanently. Ten years after the case is closed, it is transferred to NARA. Non-selected investigatory files are destroyed 10 years after the case is closed. Electronic versions of records created by the electronic mail and word processing applications are deleted when a file copy is generated or when no longer needed for reference or updating.

* * * * *

SYSTEM EXEMPTED FROM CERTAIN PROVISIONS OF THE ACT:

The Attorney General has exempted this system from subsections (c)(3) and (4); (d); (e) (1), (2), (3), (5), and (8); and (g) of the Privacy Act pursuant to 5 U.S.C. 552a(j)(2). In addition, the system has been exempted from subsections (c)(3), (d), and (e)(1) pursuant to 5 U.S.C. 552a(k)(2). INS has published implementing regulations in accordance with the requirements of 5 U.S.C. 553 (b), (c), and (e) and these were published in the Federal Register of June 25, 1997 (62 FR 34169) and can be found at 28 CFR 16.99 (g) and (h).

[FR Doc. 02-37 Filed 1-2-02; 8:45 am]

BILLING CODE 4410-10-M